JUDICIAL CONFERENCE OF THE UNITED STATES

Meeting of the Judicial Conference Advisory Committee on Rules of Evidence

AGENCY: Judicial Conference of the United States, Advisory Committee on Rules of Evidence.

ACTION: Change of time for open meeting on October 18, 2002, in Seattle, Washington.

SUMMARY: The time for the open meeting of the Advisory Committee on Rules of Evidence has been changed. The new time for the meeting is from 7:30 a.m. to 5 p.m. The meeting will be held at the original location: Renaissance Madison Hotel, 515 Madison Street, Seattle, Washington.

[Original notice of meeting appeared in the Federal Register of July 19, 2002.]

FOR FURTHER INFORMATION CONTACT: John K. Rabiej, Chief, Rules Committee Support Office, Administrative Office of the United States Courts, Washington, DC 20544, telephone (202) 502-1820.

Dated: September 4, 2002.
John K. Rabiej,
Chief, Rules Committee Support Office.

[FR Doc. 02-22869 Filed 9-9-02; 8:45 am]

BILLING CODE 2210-55-M